SECURITIES AND EXCHANGE COMMISSION

[Release No. IC-31387]

Notice of Applications for Deregistration Under Section 8(f) of the Investment Company Act of 1940

December 19, 2014.

The following is a notice of applications for deregistration under section 8(f) of the Investment Company Act of 1940 for the month of December 2014. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on January 13, 2015, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary.

ADDRESSES: The Commission: Brent J. Fields, Secretary, U.S. Securities and Exchange Commission, 100 F Street NE., Washington, DC 20549-1090.

FOR FURTHER INFORMATION CONTACT: Diane L. Titus at (202) 551-6810, SEC, Division of Investment Management, Chief Counsel's Office, 100 F Street NE., Washington, DC 20549-8010.

Morgan Creek Global Equity Long/Short Fund [File No. 811-22460]

Summary: Applicant, a closed-end investment company, seeks an order declaring that it has ceased to be an investment company. On June 30, 2012, applicant made a liquidating distribution to its shareholders, based on net asset value. Applicant incurred no expenses in connection with the liquidation.

Filing Date: The application was filed on December 10, 2014.

Applicant's Address: 301 West Barbee Chapel Rd., Suite 200, Chapel Hill, NC 27517.

WY Funds [File No. 811-21675]

Summary: Applicant seeks an order declaring that it has ceased to be an investment company. On September 26, 2014, applicant made a liquidating distribution to its shareholders, based on net asset value. Expenses of $2,400 incurred in connection with the liquidation were paid by Wertz York Capital Management Group, LLC, applicant's investment adviser.

Filing Date: The application was filed on December 5, 2014.

Applicant's Address: 5502 N. Nebraska Ave., Tampa, FL 33604.

Pax World Funds Trust II [File No. 811-22187]

Summary: Applicant seeks an order declaring that it has ceased to be an investment company. Applicant transferred its assets to Pax World Funds Series Trust I, and on March 31, 2014, made a distribution to its shareholders based on net asset value. Expenses of approximately $419,000 incurred in connection with the reorganization were paid by the acquiring fund and Pax World Management LLC, applicant's investment adviser.

Filing Date: The application was filed on December 2, 2014.

Applicant's Address: 30 Penhallow Street, Suite 400, Portsmouth, NH 03801.

COUNTRY Mutual Funds Trust [File No. 811-10475]

Summary: Applicant seeks an order declaring that it has ceased to be an investment company. On October 31, 2013, applicant made a liquidating distribution to its shareholders, based on net asset value. Expenses of $57,097 incurred in connection with the liquidation were paid by applicant and COUNTRY Fund Management, applicant's investment adviser.

Filing Date: The application was filed on November 25, 2014.

Applicant's Address: 1705 North Towanda Ave., Bloomington, IL 61702.

BlackRock Income Opportunity Trust, Inc. [File No. 811-6443]

Summary: Applicant, a closed-end investment company, seeks an order declaring that it has ceased to be an investment company. Applicant transferred its assets to BlackRock Core Bond Trust, and on November 10, 2014, made a distribution to its shareholders based on net asset value. Expenses of approximately $409,641 incurred in connection with the reorganization were paid by applicant and BlackRock Advisors, LLC, applicant's investment adviser.

Filing Date: The application was filed on November 21, 2014.

Applicant's Address: 100 Bellevue Pkwy., Wilmington, DE 19809.

J.P. Morgan Series Trust II [File No. 811-8212]

Summary: Applicant seeks an order declaring that it has ceased to be an investment company. Applicant transferred its assets to JPMorgan Insurance Trust, and on April 24, 2009, made distributions to its shareholders based on net asset value. Expenses of $676,471 incurred in connection with the reorganization were paid by J.P. Morgan Investment Management Inc. and JPMorgan Funds Management, Inc., applicant's investment adviser and administrator, and JPMorgan Investment Advisors Inc., investment adviser to the acquiring fund.

Filing Dates: The application was filed on July 3, 2012, and amended on September 13, 2012 and November 7, 2014.

Applicant's Address: 270 Park Ave., New York, NY 10017.

For the Commission, by the Division of Investment Management, pursuant to delegated authority.
Kevin M. O'Neill,
Deputy Secretary.

[FR Doc. 2014-30278 Filed 12-24-14; 8:45 am]

BILLING CODE 8011-01-P